DEPARTMENT OF LABOR

Employment and Training Administration

[TA-W-61,284]

Continental Structural Plastics, Petoskey, MI; Notice of Revised Determination on Reconsideration

On June 20, 2007, the Department issued an Affirmative Determination Regarding Application on Reconsideration applicable to workers and former workers of the subject firm. The notice was published in the Federal Register on July 11, 2007 (72 FR 37800).

The previous investigation initiated on April 11, 2007, resulted in a negative determination issued on May 16, 2007, was based on the finding that imports of plastic automotive parts did not contribute importantly to worker separations at the subject firm and no shift of production to a foreign source occurred. The denial notice was published in the Federal Register on May 30, 2007 (72 FR 30033).

In the request for reconsideration, the petitioner provided additional information regarding the impact of foreign trade on production and employment at the subject firm.

Upon further review of the initial investigation, the Department requested additional list of customers from the subject firm. The new information revealed that Continental Structural Plastics, Petoskey, Michigan, supplied plastic automotive parts that were used in the production of passenger vehicles, and a loss of business with domestic manufacturers (whose workers were certified eligible to apply for adjustment assistance) contributed importantly to the workers separation or threat of separation.

In accordance with Section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

Conclusion

After careful review of the additional facts obtained on reconsideration, I determine that workers of Continental Structural Plastics, Petoskey, Michigan, qualify as adversely affected secondary workers under Section 222 of the Trade Act of 1974, as amended. In accordance with the provisions of the Act, I make the following certification:

All workers of Structural Plastics, Petoskey, Michigan, who became totally or partially separated from employment on or after March 20, 2006, through two years from the date of this certification, are eligible to apply for adjustment assistance under Section 223 of the Trade Act of 1974, and are also eligible to apply for alternative trade adjustment assistance under Section 246 of the Trade Act of 1974.

Signed in Washington, DC this 19th day of July 2007.
Elliott S. Kushner,
Certifying Officer, Division of Trade Adjustment Assistance.

[FR Doc. E7-14420 Filed 7-25-07; 8:45 am]

BILLING CODE 4510-FN-P